DEPARTMENT OF COMMERCE

National Oceanic and Atmospheric Administration

RIN 0648-XA388

North Pacific Fishery Management Council; Public Meeting

AGENCY: National Marine Fisheries Service (NMFS), National Oceanic and Atmospheric Administration (NOAA), Commerce.

ACTION: Notice of a public meeting.

SUMMARY: The North Pacific Fishery Management Council's Groundfish Plan Team will meet via teleconference in Juneau, AK, Seattle, WA and Anchorage, AK. Note the meeting starts at 1:30 p.m. (ADT)/2:30 PDT, but the lines will open ½ hour prior to the official start, check out the Council Web site at http://www.alaskafisheries.noaa.gov/npfmc/ for WebEx, meeting numbers and passwords.

DATES: The session will start at 1:30 p.m. (ADT) on Tuesday, May 17, 2011.

ADDRESSES: The session will be held at the Auke Bay Laboratory, 17385 Glacier Highway, Juneau, AK; Anchorage Council office, Old Federal Building, Room 205, Anchorage, AK; Alaska Fishery Science Center (AFSC), Traynor Room, 7600 Sand Point Way NE., Seattle, WA.

Council address: North Pacific Fishery Management Council, 605 W. 4th Avenue, Suite 306, Anchorage, AK 99501-2252.

FOR FURTHER INFORMATION CONTACT: Council staff contact, Jane DiCosimo; telephone: (907) 271-2809.

SUPPLEMENTARY INFORMATION: The teams will be reviewing proposals for model runs for GOA and BSAI Pacific cod and making recommendations to the author for those that will be reviewed at the August 2011 Groundfish Plan Team meeting. Proposed model runs include those by the author, BSAI Plan Team, GOA Plan Team, Science and Statistical Committee, CIE reviewers (tentative) and the public. Joint Plan Team recommendations from this May 2011 meeting will be reviewed by the author with the SSC in June 2011. The deadline for proposing models had been extended to April 29 to allow the public an opportunity to consider the results of the CIE reviews, which are due April 22. Proposals should be submitted to Grant Thompson, AFSC, 7600 Sand Point Way NE., Building 4, Seattle, WA.

Special Accommodations

These meetings are physically accessible to people with disabilities. Requests for sign language interpretation or other auxiliary aids should be directed to Gail Bendixen at (907) 271-2809 at least 7 working days prior to the meeting date.

Dated: April 19, 2011.
Tracey L. Thompson,
Acting Director, Office of Sustainable Fisheries, National Marine Fisheries Service.

[FR Doc. 2011-9802 Filed 4-21-11; 8:45 am]

BILLING CODE 3510-22-P